DEPARTMENT OF HEALTH AND HUMAN SERVICES

Administration for Children and Families Statement of Organization, Functions and Delegations of Authority

Notice is hereby given that I delegate to the Commissioner, Administration on Developmental Disabilities, with authority to further redelegate, the following authority vested in the Assistant Secretary for Children and Families by the Secretary under the Developmental Disabilities Assistance and Bill of Rights Act of 2000, Pub.L. 106-402, 114 Stat. 1677 (2000), 42 U.S.C. 15001 et seq.

(a) Authority Delegated

Authority to administer the Developmental Disabilities Assistance and Bill of Rights Act of 2000, (The Act), Pub. L. 106-402, 114 Stat. 1677 (2000), 42 U.S.C. 15001 et seq., and as amended, hereafter, including authority to make the initial decision regarding withholding of funds from States pursuant to section 127 of the Act (42 U.S.C. 15027).

(b) Effect on Existing Delegations

Replaces.

(c) Limitations

1. This delegation shall be exercised under the Department's existing delegation and policy on regulations.

2. This delegation does not include authority to hear appeals under 45 CFR 1386, subpart D, 45 CFR 1386.20(e), or 45 CFR 1386.34(d).

3. This delegation shall be exercised under financial and administrative requirements applicable to all Administration for Children and Families authorities.

4. I hereby affirm and ratify any actions taken by the Commissioner, Administration on Developmental Disabilities, or any other Administration on Developmental Disabilities officials, which, in effect, involved the exercise of this authority prior to the effective date of this delegation.

5. Any redelegation shall be in writing and prompt notifications must be provided to all affected managers, supervisors, and other personnel.

(d) Effective Date

This delegation is effective immediately.

Dated: April 2, 2004.
Wade F. Horn,
Assistant Secretary for Children and Families.

[FR Doc. 04-8336 Filed 4-12-04; 8:45 am]

BILLING CODE 4184-01-P